DEPARTMENT OF THE INTERIOR

Office of the Secretary

[267D0102DM, DS64600000, DLSN00000.000000, DX.64601]

Notice of Senior Executive Service Performance Review Board Appointments

AGENCY: Office of the Secretary, Interior.

ACTION: Notice of appointments.

SUMMARY: This notice provides the names of individuals appointed to serve on the Department of the Interior Senior Executive Service (SES) Performance Review Board.

DATES: These appointments take effect upon publication in the Federal Register.

FOR FURTHER INFORMATION CONTACT: Michelle Rabuck, Director, Executive Resources Division, by email at executiveresources@ios.doi.gov or by phone at (202) 697-0735.

SUPPLEMENTARY INFORMATION: The individuals appointed to serve on the Department of the Interior SES Performance Review Board are as follows:

ANDERSON, JAMES

BARNES, MELANIE

BRUNO, JASON

FINNEGAN, COLLEEN

HOGAN, MATTHEW

HOGGATT, WARREN

LUPO, FRANK

MANNING III, ROBERT

SHIRLEY, JUSTIN

SHOLLY, CAMERON

SPECTOR, RACHEL

STEVENS, BARTHOLOMEW

SUAZO, RAYMOND

TUCKER, KAPRICE

TYNER, JACOB

VRANA, EVA

WHALEN, EDWARD

WISCHER, GREGORY

(Authority: Title 5, U.S. Code, 4314)

Michelle Rabuck,
Director, Executive Resources Division.

[FR Doc. 2026-03412 Filed 2-19-26; 8:45 am]

BILLING CODE 4334-63-P